DEPARTMENT OF TRANSPORTATION

Federal Aviation Administration

Noise Compatibility Program for Laredo International Airport, Webb County, Texas; Correction

AGENCY: Federal Aviation Administration, DOT.

ACTION: Notice of acceptance of a noise exposure map.

SUMMARY: The Federal Aviation Administration published a document in the Federal Register of April 3, 2025, notifying the public of the approval of the noise compatibility program at Laredo International Airport (LRD). The document contained references to an incorrect date for City of Laredo noise exposure maps (NEM) submittal.

FOR FURTHER INFORMATION CONTACT: John MacFarlane, Regional Environmental Program Manager, Airports Division, Federal Aviation Administration, 10101 Hillwood Parkway, Fort Worth, TX 76177. Phone Number: 817-222-5681.

SUPPLEMENTARY INFORMATION:

Correction

In the Federal Register of April 3, 2025, in Vol. 90 No. 63, on page 14681, correct the first column second paragraph of Supplementary Information to read:

SUPPLEMENTARY INFORMATION: On June 30, 2022, City of Laredo submitted noise exposure maps (NEMs), descriptions and other supporting documentation for Laredo International Airport, for FAA's review and acceptance. An NEM must include a description of estimated aircraft operations during a forecast period that is at least five years in the future and how those operations will affect the map and other information. The FAA completed its review of the NEMs and supporting documentation and determined the NEMs comply with the applicable statutory and regulatory requirements. That determination was effective on August 25, 2022. FAA's determinations for the NEMs submitted by City of Laredo is limited to a finding that the maps were developed in accordance with 49 U.S.C. 47503 and the procedures in Appendix A of 14 CFR part 150. FAA's determination does not constitute approval of the City of Laredo data, information or plans, or constitute a commitment to approve a noise compatibility program or to fund the implementation of that program. If questions arise concerning the precise relationship of specific properties to noise exposure contours depicted on an NEM associated with this NCP it should be noted the FAA is not involved in any way in determining the relative locations of specific properties with regard to the depicted noise contours, or in interpreting the NEMs to resolve questions concerning, for example, which properties should be covered by the provisions of 49 U.S.C. 47506. These functions are inseparable from the land use control and planning responsibilities of local government. These local responsibilities are not changed in any way under 14 CFR part 150 or through FAA's review of NEMs. Therefore, the responsibility for the detailed overlaying of noise exposure contours onto the map depicting properties on the surface rests exclusively with the City of Laredo that submitted the NEMs or with those public agencies and planning agencies with which consultation is required. The FAA relied on the certification by the City of Laredo this required consultation was accomplished per 14 CFR 150.21 and 49 U.S.C. 47503.

Issued in Fort Worth, TX, on June 12, 2025.
D. Cameron Bryan,
Director (A), Airports Division, Southwest Regional Office.

[FR Doc. 2025-11033 Filed 6-13-25; 8:45 am]

BILLING CODE 4910-13-P